DEPARTMENT OF ENERGY

Federal Energy Regulatory Commission

[Docket No. RP99-480-014]

Texas Eastern Transmission, LP; Notice of Compliance Filing

January 25, 2005.

Take notice that on January 12, 2005, Texas Eastern Transmission, LP (Texas Eastern) submitted a compliance filing pursuant to a Commission order issued on November 3, 2004, in Docket Nos. RP99-480-010 and RP99-480-011, Texas Eastern Transmission, LP, 109 FERC ¶61,145 (2004).

Texas Eastern states that it is withdrawing and replacing sub third revised sheet No. 507 as filed in its December 3, 2004 compliance filing in Docket No. RP99-480-013. Texas Eastern is proposing in this filing to revise section 1.35A of the general terms and conditions of its FERC gas tariff to provide that Texas Eastern may agree, on a not unduly discriminatory basis, that a firm service agreement subject to a negotiated or discounted rate qualifies as a ROFR Agreement.

Texas Eastern states that copies of the filing were served upon all affected customers of Texas Eastern and interested state commissions, as well as upon all parties on the Commission's official service list in this proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-376 Filed 2-1-05; 8:45 am]

BILLING CODE 6717-01-P